DEPARTMENT OF COMMERCE

International Trade Administration

[C-489-502]

Continuation of Countervailing Duty Order: Welded Carbon Steel Pipes and Tubes From Turkey

AGENCY: Import Administration, International Trade Administration, Department of Commerce.

ACTION: Notice of continuation of countervailing duty order: welded carbon steel pipes and tubes from Turkey.

SUMMARY: On April 3, 2000, the Department of Commerce (“the Department”), pursuant to sections 751(c) and 752 of the Tariff Act of 1930, as amended (“the Act”), determined that revocation of the countervailing duty order on welded carbon steel pipes and tubes from Turkey, is likely to lead to continuation or recurrence of a countervailable subsidy. See Welded Carbon Steel Pipes and Tubes from Turkey; Final Results of Full Sunset Review (“Final Results”), 65 FR 17486 (April 3, 2000). On August 9, 2000, the International Trade Commission (“the Commission”), pursuant to section 751(c) of the Act, determined that revocation of the countervailing duty order on welded carbon steel pipes and tubes from Turkey would be likely to lead to continuation or recurrence of material injury to an industry in the United States within a reasonably foreseeable time. See Certain Pipe and Tube from Argentina, Brazil, Canada, India, Korea, Mexico, Singapore, Taiwan, Thailand, Turkey, and Venezuela (“ITC Final Results”), 65 FR 48733 (August 9, 2000). Therefore, pursuant to 19 CFR 351.218(f)(4), the Department is publishing notice of the continuation of the countervailing duty order on welded carbon steel pipes and tubes from Turkey.

EFFECTIVE DATE: August 22, 2000.

FOR FURTHER INFORMATION CONTACT: Kathryn B. McCormick or James P. Maeder, Office of Policy for Import Administration, International Trade Administration, U.S. Department of Commerce, 14th Street and Constitution Ave., NW., Washington, DC 20230; telephone: (202) 482-1930 or (202) 482-3330, respectively.

SUPPLEMENTARY INFORMATION:

Background

On May 1, 1999, and May 3, 1999, respectively, the Department initiated, and the Commission instituted, sunset reviews (64 FR 23596 and 64 FR 23679, respectively) of the countervailing duty order on welded carbon steel pipes and tubes from Turkey, pursuant to section 751(c) of the Act. As a result of its review, the Department found on April 3, 2000, that revocation of the countervailing duty order on welded carbon steel pipes and tubes from Turkey would likely lead to continuation or recurrence of a countervailable subsidy and notified the Commission of the net countervailable subsidy likely to prevail were the order revoked. See Final Results, (65 FR 17486).

On August 9, 2000, the Commission determined, pursuant to section 751(c) of the Act, that revocation of the countervailiing duty order on welded carbon steel pipes and tubes from Turkey would be likely to lead to continuation or recurrence of material injury to an industry in the United States within a reasonably foreseeable time. See ITC Final Results, (65 FR 48733) and USITC Publication 3316 (July 2000), Investigation Nos. 701-TA-253 and 731-TA-273 (Reviews).

Scope

This order covers shipments of Turkish welded carbon steel pipes and tubes, having an outside diameter of 0.375 inch or more, but not more than 16 inches, of any wall thickness. These products, commonly referred to in the industry as standard pipe and tube or structural tubing, are produced in accordance with various American Society Testing and Materials (“ASTM”) specifications, most notably A-53, A-120, A-500, or A-501. The subject merchandise was originally classifiable under item number 416.30 of the Tariff Schedules of the United States Annotated (“TSUSA”); currently, they are classifiable under item numbers 7306.30.10 and 7306.30.50 of the Harmonized Tariff Schedule of the United States (“HTSUS”). Although the TSUSA and HTSUS item numbers are provided for convenience and customs purposes, the written description remains dispositive.

Determination

As a result of the determinations by the Department and the Commission that revocation of the countervailing duty order would be likely to lead to continuation or recurrence of a countervailable subsidy and material injury to an industry in the United States, pursuant to section 751(d)(2) of the Act, the Department hereby orders the continuation of the countervailing duty order on welded carbon steel pipes and tubes from Turkey. The Department will instruct the U.S. Customs Service to continue to collect countervailing duty deposits at the rates in effect at the time of entry for all imports of subject merchandise. The effective date of continuation of this order will be the date of publication in the Federal Register of this Notice of Continuation. Pursuant to section 751(c)(2) and 751(c)(6) of the Act, the Department intends to initiate the next five-year review of this order not later than August 2005.

Dated: August 16, 2000.
Troy H. Cribb,
Acting Assistant Secretary for Import Administration.

[FR Doc. 00-21393 Filed 8-21-00; 8:45 am]

BILLING CODE 3510-DS-P